DEPARTMENT OF THE INTERIOR

Bureau of Land Management

[BLM_CO_FRN_MO4500170164]

Notice of Availability of the Proposed Resource Management Plan and Final Environmental Impact Statement for the Eastern Colorado Resource Management Plan, Colorado

AGENCY: Bureau of Land Management.

ACTION: Notice of availability.

SUMMARY: In compliance with the National Environmental Policy Act of 1969, as amended (NEPA), and the Federal Land Policy and Management Act of 1976, as amended, the Bureau of Land Management (BLM) has prepared a Proposed Resource Management Plan (RMP) and Final Environmental Impact Statement (EIS) for the Eastern Colorado RMP and by this notice is announcing the start of a 30-day protest period of the Proposed RMP and public comment on proposed target shooting closures.

DATES: This notice announces a 30-day protest period to the BLM on the Proposed RMP beginning with the date following the Environmental Protection Agency's (EPA) publication of its Notice of Availability (NOA) of the Proposed RMP/Final EIS in the Federal Register. The EPA usually publishes its NOAs on Fridays. Protests must be postmarked or electronically submitted on the BLM's ePlanning site during the 30-day protest period.

In accordance with the John D. Dingell, Jr. Conservation, Management, and Recreation Act of 2019 (Dingell Act, Pub. L. 116-9, Section 4103), the BLM is announcing the opening of a 60-day public comment period on the proposed closure of recreational target shooting (referred to as “target shooting” in the RMP) near residences and at certain rock climbing areas, trail networks, campgrounds, and other high-use recreation sites identified in the Proposed RMP alternative.

ADDRESSES: The Proposed RMP and Final EIS is available on the BLM ePlanning project website at https://eplanning.blm.gov/eplanning-ui/project/39877. Documents pertinent to this proposal may be examined online at https://eplanning.blm.gov/eplanning-ui/project/39877 and at the Royal Gorge Field Office.

Instructions for filing a protest of the proposed Eastern Colorado Resource Management Plan can be found at: https://www.blm.gov/programs/planning-and-nepa/public-participation/filing-a-plan-protest and at 43 CFR 1610.5-2.

You may submit comments on the proposed shooting closures by the following methods:

Mail: RMP Project Manager Royal, Gorge Field Office, 3028 E Main St., Cañon City, CO 81212.

Email: BLM_CO_RG_RMP_Comments@blm.gov.

FOR FURTHER INFORMATION CONTACT: John Smeins, Project Manager, telephone (719) 252-8212; address 3028 E Main St., Cañon City, CO 81212; email jsmeins@blm.gov. Individuals in the United States who are deaf, deafblind, hard of hearing, or have a speech disability may dial 711 (TTY, TDD, or TeleBraille) to access telecommunications relay services for contacting Mr. Smeins. Individuals outside the United States should use the relay services offered within their country to make international calls to the point-of-contact in the United States.

SUPPLEMENTARY INFORMATION: The BLM prepared the Eastern Colorado Proposed RMP/Final EIS to evaluate and revise the management strategy for resources, resource uses, and special designations on public lands managed by the Royal Gorge Field Office, which is the planning area for the RMP. Existing management decisions for public lands and resources in the Royal Gorge Field Office are currently described in two documents: the 1986 Northeast RMP, as amended; and the 1996 Royal Gorge RMP, as amended.

The planning area encompasses approximately 35 million acres of land under various jurisdictions, including the BLM, U.S. Forest Service, National Park Service, State of Colorado, and local government and private lands in 37 counties across south-central and eastern Colorado. The Browns Canyon National Monument is not part of the planning area for this RMP/EIS, as it is the subject of a separate plan. The Eastern Colorado RMP will provide management direction for approximately 658,200 acres of BLM-administered surface land and approximately 3,311,900 acres of BLM-administered mineral estate. The decision area includes all BLM public lands and approximately 2,673,000 acres of split-estate Federal minerals on private, local government, and State lands. It does not include National Forest System land and other Federal land where the BLM does not make planning decisions about oil and gas management and other uses. The BLM typically adopts the requirements determined by those Federal surface-managing agencies when leasing the associated mineral estate; while such lands are within the planning area, they are outside the decision area for this RMP.

In preparing the Proposed RMP, the BLM evaluated, in detail, a No Action Alternative (Alternative A) and three action alternatives (Alternatives B, C and D). Alternative A retains the current management goals, objectives, and direction specified in the 1986 Northeast RMP and the 1996 Royal Gorge RMP. Alternative B emphasizes improving, rehabilitating, and restoring resources; sustaining the ecological integrity of habitats for all priority plant, wildlife, and fish species; and allowing appropriate development scenarios for allowable uses (such as mineral leasing, recreation, communication sites, and livestock grazing). Alternative C emphasizes a mix of uses that maximizes utilization of resources while protecting land health. The development scenarios for allowable uses in this alternative emphasize maximizing resource production in an environmentally responsible manner while maintaining the basic protection needed to sustain resources, including mitigating impacts on land health. Alternative D, the Proposed RMP, emphasizes balancing resources and resource use among competing human interests, land uses, and the conservation of natural and cultural resource values, while sustaining and enhancing ecological integrity across the landscape, including plant, wildlife, and fish habitat. This alternative has four geographic landscapes with distinct management, and incorporates a balanced level of protection, restoration, and enhancement, as well as the use of resources and services to meet ongoing programs and land uses with an emphasis on local community visions for the future of public lands.

Public review of the Eastern Colorado Draft RMP/EIS began on June 21, 2019. The BLM held seven public open-house meetings across the Eastern Colorado Planning Area during the 90-day public comment period. Comments on the Draft RMP/EIS were considered and incorporated into the final EIS and proposed plan as appropriate. Public and cooperating agency comments and further internal BLM review resulted in the addition of clarifying text and refinement of Alternative D to include backcountry conservation areas, expanded ACEC designations, and the closure of areas with low or no fluid mineral potential to oil and gas leasing. In the Proposed RMP, the BLM proposes that recreational target shooting would generally be allowed on BLM-managed lands in the planning area, but to protect the safety of visitors, target shooting would continue to be prohibited at certain rock-climbing areas, trail networks, campgrounds, and other high-use recreation sites. To protect public safety near residences, target shooting would not be allowed on small BLM-administered parcels west of Boulder that are interspersed with private lands and numerous houses.

Protest of the Proposed RMP

The BLM planning regulations state that any person who participated in the preparation of the RMP and has an interest that will or may be adversely affected by approval of the Proposed RMP may protest its approval to the BLM Director. Protest on the Proposed RMP constitutes the final opportunity for administrative review of the proposed land use planning decisions prior to the BLM adopting an approved RMP. Instructions for filing a protest regarding the Proposed RMP with the BLM Director may be found online at https://www.blm.gov/programs/planning-and-nepa/public-participation/filing-a-plan-protest and at 43 CFR 1610.5-2. All protests must be in writing and mailed or delivered to the appropriate address, as set forth in the ADDRESSES section, or submitted electronically through the BLM ePlanning project website as described previously. Protests submitted by email or by fax will be invalid unless a protest is also submitted as a hard copy. The BLM Director will render a written decision on each protest. The Director's decision shall be the final decision of the Department of the Interior. Responses to protest issues will be compiled and documented in a Protest Resolution Report made available following the protest resolution online at: https://www.blm.gov/programs/planning-and-nepa/public-participation/protest-resolution-reports. After resolution of protests, the BLM will issue a Record of Decision (ROD) and an Approved RMP.

Dingell Act Comment on Proposed Target Shooting Closures

Target shooting closures near residences, certain rock-climbing areas, trail networks, campgrounds, and other high-use recreation sites are for the safety of residents and the visiting public. To afford the BLM the opportunity to consider comments on proposed Penrose Commons, Phantom Canyon Road, Shelf Road Recreation Area, Guffey Gorge, Methodist Mountain, Turkey Rock, Temple Canyon Road, Garden Park, and Boulder County target shooting closures before approval of the ROD/RMP, please ensure your comments are received by the DATES listed above. Comments may be submitted using the specified methods listed in the ADDRESSES section earlier.

Before including your phone number, email address, or other personal identifying information in your protest or comment, you should be aware that your entire protest or comment—including your personal identifying information—may be made publicly available at any time. While you can ask us in your protest or comment to withhold your personal identifying information from public review, we cannot guarantee that we will be able to do so.

(Authority: 40 CFR 1506.6, 40 CFR 1506.10, 43 CFR 1610.2, 43 CFR 1610.5.)

Douglas J. Vilsack,
State Director.

[FR Doc. 2023-14034 Filed 7-6-23; 8:45 am]

BILLING CODE 4331-16-P